ENVIRONMENTAL PROTECTION AGENCY

40 CFR Parts 58 and 81

[LA-31-1-7189b; FRL-7374-2]

Modification of the Ozone Monitoring Season; Louisiana; and Designation of Areas for Air Quality Planning Purposes; Louisiana; Revised Geographical Designation of Certain Air Quality Control Regions

AGENCY: Environmental Protection Agency (EPA).

ACTION: Proposed rule.

SUMMARY: We, the EPA, are proposing to take direct final action to approve a request from the State of Louisiana to revise the geographical boundaries of the three Air Quality Control Regions (AQCRs) in the State of Louisiana, which are the Southern Louisiana-Southeast Texas AQCR, the Shreveport-Texarkana-Tyler AQCR, and the Monroe-El Dorado AQCR. The EPA is also taking direct final action to shorten the ozone season for the Monroe-El Dorado and Shreveport-Texarkana-Tyler AQCRs, from year-round, to March 1 through October 31.

In the “Rules and Regulations” section of this Federal Register, we are approving the State's request as a direct final rule without prior proposal because we view this as a noncontroversial revision and anticipate no adverse comment. We have explained our reasons for this approval in the preamble to the direct final rule. If we receive no relevant adverse comment, we will not take further action on this proposed rule. If we receive relevant adverse comment, we will withdraw the direct final rule and it will not take effect. We will address all public comments in a subsequent final rule based on this proposed rule. We will not institute a second comment period on this action. Any parties interested in commenting must do so at this time.

DATES: Written comments must be received by October 10, 2002.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least 24 hours in advance.

Environmental Protection Agency, Region 6, Air Planning Section (6PD-L), 1445 Ross Avenue, Suite 700, Dallas, Texas 75202-2733.

Louisiana Department of Environmental Quality, Air Quality Division, H. B. Garlock Building, 7290 Bluebonnet Blvd., Baton Rouge, LA 70810.

FOR FURTHER INFORMATION CONTACT: Joe Kordzi of the EPA Region 6 Air Planning Section, at (214) 665-7186 and at the Region 6 address above.

SUPPLEMENTARY INFORMATION: This document concerns a modification to the geographical boundaries of the three AQCRs located in the State of Louisiana, and a revision to the ozone monitoring season for two of these AQCRs. For further information, please see the information provided in the direct final action that is located in the “Rules and Regulations” section of this Federal Register publication.

Authority: 42 U.S.C. 7401 et seq.
Dated: August 27, 2002.
Lawrence E. Starfield,
Acting Regional Administrator, Region 6.

[FR Doc. 02-22984 Filed 9-9-02; 8:45 am]

BILLING CODE 6560-50-P